DEPARTMENT OF TRANSPORTATION

Coast Guard

[USCG 2002-13962]

Collection of Information Under Review by Office of Management and Budget (OMB): OMB Control Number 2115-0086 and 2115-0551

AGENCY: Coast Guard, DOT.

ACTION: Request for comments.

SUMMARY: In compliance with the Paperwork Reduction Act of 1995, the Coast Guard intends to seek the approval of OMB for the renewal of two Information Collection Requests (ICRs). The ICRs comprise (1) Application for Measurement of Vessels for Tonnage and (2) Vessel Reporting Requirements. Before submitting the ICRs to OMB, the Coast Guard is inviting comments on them as described below.

DATES: Comments must reach the Coast Guard on or before February 4, 2003.

ADDRESSES: To make sure that your comments and related material do not enter the docket [USCG 2002-13962] more than once, please submit them by only one of the following means:

(1) By mail to the Docket Management Facility, U.S. Department of Transportation (DOT), room PL-401, 400 Seventh Street SW., Washington, DC 20590-0001. Caution: Because of recent delays in the delivery of mail, your comments may reach the Facility more quickly if you choose one of the other means described below.

(2) By delivery to room PL-401 on the Plaza level of the Nassif Building, 400 Seventh Street SW., Washington, DC, between 9 a.m. and 5 p.m., Monday through Friday, except Federal holidays. The telephone number is 202-366-9329.

(3) By fax to the Facility at 202-493-2251.

(4) Electronically through the Web site for the Docket Management System at http://dms.dot.gov.

The Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICRs are available through this docket on the Internet at http://dms.dot.gov, and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; or Dorothy Beard, Chief, Documentary Services Division, U.S. Department of Transportation, 202-366-5149, for questions on the docket.

Request for Comments

The Coast Guard encourages interested persons to submit comments. Persons submitting comments should include their names and addresses, identify this document [USCG 2002-13962], and give the reasons for the comments. Please submit all comments and attachments in an unbound format no larger than 8½ by 11 inches, suitable for copying and electronic filing. Persons wanting acknowledgment of receipt of comments should enclose stamped self-addressed postcards or envelopes.

Information Collection Requests

1. Title: Application for Measurement of Vessels for Tonnage.

OMB Control Number: 2115-0086.

Summary: The information for this collection is used to determine a vessel's tonnage. Tonnage is used as a basis for licensing, inspection, safety requirements, and operating fees.

Need: 46 U.S.C 14104 requires the measurement of certain vessels for tonnage. 46 CFR part 69 prescribes the rules for this measurement.

Respondents: Owners of vessels.

Frequency: On occasion.

Burden: The estimated burden is 33,000 hours a year.

2. Title: Vessel Reporting Requirements.

OMB Control Number: 2115-0551.

Summary: The collection of information requires the owner, charterer, managing operator, or agent of a U.S.-flagged vessel to immediately notify the Coast Guard if there is reason to believe the vessel is in distress or lost. The report must be followed up with written confirmation within 24 hours to the Coast Guard.

Need: 46 U.S.C. 2306 authorizes the Coast Guard to implement the reporting requirements necessary to determine whether a vessel is in distress or lost and to take appropriate action to provide needed assistance.

Respondents: Owners, charterers, managing operators, or agents.

Frequency: On occasion.

Burden: The estimated burden is 137 hours a year.

Dated: November 27, 2002.
C.I. Pearson,
Director of Information and Technology.

[FR Doc. 02-30929 Filed 12-5-02; 8:45 am]

BILLING CODE 4910-15-P